SECURITIES AND EXCHANGE COMMISSION

[File No. 500-1]

Whispering Oaks International, Inc., D/b/a BioCurex, Inc.; Order of Suspension of Trading

April 8, 2004.

It appears to the Securities and Exchange Commission that there is a lack of current and accurate information concerning the securities of Whispering Oaks International, d/b/a BioCurex, Inc. (“BioCurex”), because of questions regarding the accuracy of assertions by BioCurex and by others, in press releases and e-mails to investors concerning, among other things, (1) a study confirming the effectiveness of its primary product and (2) approval of its main product by the Food and Drug Administration.

The Commission is of the opinion that the public interest and the protection of investors require a suspension of trading in the securities of the above listed company.

Therefore, it is ordered, pursuant to section 12(k) of the Securities Exchange Act of 1934, that trading in the above listed company is suspended for the period from 3 p.m. EDT on April 8, 2004 through 11:59 p.m. EDT on April 22, 2004.

By the Commission.
J. Lynn Taylor,
Assistant Secretary.

[FR Doc. 04-8407 Filed 4-8-04; 8:45 am]

BILLING CODE 8010-01-P